DEPARTMENT OF HEALTH AND HUMAN SERVICES

Substance Abuse and Mental Health Services Administration

Suspension of Application Receipt Dates for a Fiscal Year (FY) 2003 Funding Opportunity

AGENCY: Center for Substance Abuse Treatment (CSAT), Substance Abuse and Mental Health Services Administration (SAMHSA), HHS.

ACTION: Suspension of future application receipt dates until further notice for SAMHSA/CSAT Grants to Expand Substance Abuse Treatment Capacity in Targeted Areas of Need Program (PA 03-001).

SUMMARY: This notice is to inform the public that future application receipt dates under the SAMHSA/CSAT program announcement, Grants to Expand Substance Abuse Treatment Capacity in Targeted Areas of Need—PA 03-001, are being cancelled until further notice. Effective immediately, no applications will be received for the future September 10 and January 10 receipt dates under this announcement.

The notice of funding opportunity for PA 03-001 was published in the Federal Register on June 24, 2002, (Vol. 67, Number 121, pages 42573-42574).

SAMHSA is currently re-engineering its discretionary grants process and it is possible that PA 03-001 may ultimately be withdrawn.

Information related to this notice may be obtained from: Tom Edwards, Division of Services Improvement, CSAT/SAMHSA, Tele: (301) 443-8453, e-mail: tedwards@samhsa.gov.

Dated: April 10, 2003.
Richard Kopanda,
Executive Officer, Substance Abuse and Mental Health Services Administration.

[FR Doc. 03-9388 Filed 4-16-03; 8:45 am]

BILLING CODE 4162-20-P